COMMITTEE FOR PURCHASE FROM PEOPLE WHO ARE BLIND OR SEVERELY DISABLED
Procurement List; Additions and Deletions

AGENCY:
Committee for Purchase from People Who Are Blind or Severely Disabled.

ACTION:
Additions to and Deletions from Procurement List.

SUMMARY:
This action adds to the Procurement List services to be furnished by nonprofit agencies employing persons who are blind or have other severe disabilities, and deletes from the Procurement List products previously furnished by such agencies.

EFFECTIVE DATE:
February 29, 2004.

ADDRESSES:
Committee for Purchase From People Who Are Blind or Severely Disabled, Jefferson Plaza 2, Suite 10800, 1421 Jefferson Davis Highway, Arlington, Virginia, 22202-3259.

FOR FURTHER INFORMATION CONTACT:
Sheryl D. Kennerly, (703) 603-7740.

SUPPLEMENTARY INFORMATION:
Additions
On November 7 and December 5, 2003, the Committee for Purchase From People Who Are Blind or Severely Disabled published notice (68 F.R. 63057 and 68023) of proposed additions to the Procurement List.
After consideration of the material presented to it concerning capability of qualified nonprofit agencies to provide the services and impact of the additions on the current or most recent contractors, the Committee has determined that the services listed below are suitable for procurement by the Federal Government under 41 U.S.C. 46-48c and 41 CFR 51-2.4.
Regulatory Flexibility Act Certification
I certify that the following action will not have a significant impact on a substantial number of small entities. The major factors considered for this certification were:
1. The action will not result in any additional reporting, recordkeeping or other compliance requirements for small entities other than the small organizations that will furnish the services to the Government.
2. The action will result in authorizing small entities to furnish the services to the Government.
3. There are no known regulatory alternatives which would accomplish the objectives of the Javits-Wagner-O'Day Act (41 U.S.C. 46-48c) in connection with the services added to the Procurement List.
End of Certification
Accordingly, the following services are added to the Procurement List:

Services

Service Type/Location: Custodial Services, VA Community Based Outpatient Clinic North Shore, Lynn, Massachusetts and VA Community Based Outpatient Clinic, Haverill, Massachusetts.

NPA: Morgan Memorial Goodwill Industries, Boston, Massachusetts

Contract Activity: VA Medical Center—Edith Nourse Rogers Memorial, Bedford, Massachusetts

Service Type/Location: Document Destruction
At the following Locations and for the Nonprofit Agencies Indicated: Camarillo Office, IRS (Including the Criminal Investigation Division), 751 Daily Drive, Camarillo, California

NPA: Goodwill Industries of Southern California, Los Angeles, CA, El Centro Office, IRS, 1699 W. Main Street, El Centro, California

NPA: Landmark Services, Inc., Santa Ana, California, El Monte Office, IRS (Including the Criminal Investigation Division), 9350 E. Flair Drive, El Monte, California

NPA: Goodwill Industries of Southern California, Los Angeles, California, El Segundo Office, IRS (Including the Criminal Investigation, Division), 222 N. Sepulveda Blvd., El Segundo, California

NPA: Goodwill Industries of Southern California, Los Angeles, California, Glendale Office, IRS (Including the Criminal Investigation Division), 225 W. Broadway, Glendale, California

NPA: Goodwill Industries of Southern California, Los Angeles, California, Laguna Niguel Office, IRS (Including the Criminal Investigation Division), 24000 Avila Road, Laguna Niguel, California

NPA: Landmark Services, Inc., Santa Ana, California, Long Beach Office, IRS (Including the Criminal Investigation Division), 501 W. Ocean Blvd., Long Beach, California

NPA: Landmark Services, Inc., Santa Ana, California, Los Angeles Office, IRS (Including the Criminal Investigation Division), 300 N. Los Angeles Street, Los Angeles, California

NPA: Goodwill Industries of Southern California, Los Angeles, California, Norwalk Office, IRS, 12440 E. Imperial Highway, Norwalk, California

NPA: Goodwill Industries of Southern California, Los Angeles, California, Palm Springs Office, IRS, 980 E. Tahquitz Canyon Way, Palm Springs, California

NPA: Goodwill Industries of Southern California, Los Angeles, California, San Bernardino Office, IRS (Including the Criminal Investigation Division), 290 N. “D” Street, San Bernardino, California

NPA: Goodwill Industries of Southern California, Los Angeles, California, San Diego Office, IRS (Including the Criminal Investigation Division), 880 Front Street, and 701 “B” Street, San Diego, California

NPA: Landmark Services, Inc., Santa Ana, California, San Marcos Office, IRS, 1 Civic Center Drive, San Marcos, California

NPA: Landmark Services, Inc., Santa Ana, California, Santa Ana Office, IRS (Including the Criminal Investigation Division), 34 Civic Center Plaza, Santa Ana, California

NPA: Landmark Services, Inc., Santa Ana, California, Van Nuys Office, IRS (Including the Criminal Investigation Division), 6230 Van Nuys Blvd., Van Nuys, California

NPA: Goodwill Industries of Southern California, Los Angeles, California, Woodland Hills Office, IRS, 6340 Variel Ave, Woodlands Hills, California

NPA: Goodwill Industries of Southern California, Los Angeles, California

Contract Activity: IRS-Western Area Procurement Branch-APFW, San Francisco, California

Service Type/Location: Mailing Services, Theodore Levin U.S. Courthouse, U.S. District Court, Eastern District of Michigan, Detroit, Michigan

NPA: Jewish Vocational Service and Community Workshop, Southfield, Michigan

Contract Activity: U.S. District Court, Detroit, Michigan

Deletions
On December 5, 2003 the Committee for Purchase From People Who Are Blind or Severely Disabled published notice (68 FR 68024) of proposed deletions to the Procurement List. After consideration of the relevant matter presented, the Committee has determined that the products listed below are no longer suitable for procurement by the Federal Government under 41 U.S.C. 46-48c and 41 CFR 51-2.4.
Regulatory Flexibility Act Certification
I certify that the following action will not have a significant impact on a substantial number of small entities. The major factors considered for this certification were:
1. The action may result in additional reporting, recordkeeping or other compliance requirements for small entities.
2. The action may result in authorizing small entities to furnish the products to the Government.
3. There are no known regulatory alternatives which would accomplish the objectives of the Javits-Wagner-O'Day Act (41 U.S.C. 46-48c) in connection with the products deleted from the Procurement List.
End of Certification
Accordingly, the following products are deleted from the Procurement List:

Products

Product/NSN: Detergent, General Purpose/7930-01-055-6121

NPA: Lighthouse for the Blind, St. Louis, MO

Contract Activity: GSA, Southwest Supply Center, Fort Worth, TX

Product/NSN: Holder, Desk Memorandum,
7520-00-139-3802
7520-00-290-6445

NPA: Dallas Lighthouse for the Blind, Inc., Dallas, TX

Contract Activity: Office Supplies & Paper Products Acquisition Ctr, New York, NY

Product/NSN: Sponge, Cellulose/7920-00-559-8462

NPA: Mississippi Industries for the Blind, Jackson, MS

Contract Activity: GSA, Southwest Supply Center, Fort Worth, TX

Product/NSN: Strap Set, Webbing/5342-00-922-2480

NPA: Huntsville Rehabilitation Foundation, Huntsville, AL

Contract Activity: Defense Supply Center Richmond, Richmond, VA

Sheryl D. Kennerly,
Director, Information Management.

[FR Doc. 04-1992 Filed 1-29-04; 8:45 am]
BILLING CODE 6353-01-P